DEPARTMENT OF HOMELAND SECURITY

Coast Guard

33 CFR Part 165

[Docket No. USCG-2023-0381]

Safety Zones; Fireworks Displays in the Fifth Coast Guard District—Beach Haven, NJ

AGENCY: Coast Guard, DHS.

ACTION: Notification of enforcement of regulation.

SUMMARY: The Coast Guard will enforce the Little Egg Harbor, Parker Island, NJ; Safety Zone on July 4, 2023, or on a rain date of July 5, 2023, to provide for the safety of life on navigable waterways during a barge-based fireworks display. Our regulation for marine events within the Fifth Coast Guard District identifies the boundaries of the regulated area. During the enforcement period, no person or vessel may enter, remain in, or transit through the regulated area, and anyone in the vicinity must comply with directions from the Patrol Commander or any Official Patrol displaying a Coast Guard ensign.

DATES: The portion of the regulation 33 CFR 165.506 for Parker Island, NJ, as identified in entry 7 of table 1 to paragraph (h)(1), will be enforced from 9 p.m. through 10 p.m. on July 4, 2023, or on a rain date of July 5, 2023.

FOR FURTHER INFORMATION CONTACT: If you have questions about this notice of enforcement, you may call or email Petty Officer Dylan Caikowski, U.S. Coast Guard, Sector Delaware Bay, Waterways Management Division, telephone 215-271-4814, email SecDelBayWWM@uscg.mil.

SUPPLEMENTARY INFORMATION:

The Coast Guard will enforce the safety zone in table 1 to paragraph (h)(1) to 33 CFR 165.506, entry No. 7 for a barge-based fireworks display from 9 p.m. through 10 p.m. on July 4, 2023, or on a rain date of July 5, 2023. This action is necessary to ensure safety of life on the navigable waters of the United States immediately prior to, during, and immediately after a fireworks display. Our regulation for safety zones of fireworks displays within the Fifth Coast Guard District, table 1 to paragraph (h)(1) to 33 CFR 165.506, entry 7 specifies the location of the regulated area as all waters of Little Egg Harbor within a 500-yard radius of the fireworks barge position. The approximate position for the barge is latitude 39°34′18.77″ N, longitude 074°14′36.2″ W. During the enforcement period, as reflected in § 165.506(d), vessels may not enter, remain in, or transit through the safety zone unless authorized by the Captain of the Port or designated Coast Guard patrol personnel on-scene.

In addition to this notice of enforcement in the Federal Register, the Coast Guard will provide notification of this enforcement period via Local Notice to Mariners and Broadcast Notice to Mariners.

Dated: May 30, 2023.
Jonathan D. Theel,
Captain, U.S. Coast Guard Captain of the Port Delaware Bay.

[FR Doc. 2023-12024 Filed 6-5-23; 8:45 am]

BILLING CODE 9110-04-P